FEDERAL ELECTION COMMISSION

11 CFR Parts 104 and 114

[Notice 2015-03]

Independent Expenditures and Electioneering Communications by Corporations and Labor Organizations

AGENCY: Federal Election Commission.

ACTION: Announcement of Effective Date.

SUMMARY: On October 21, 2014, the Commission published in the Federal Register a final rules implementing changes to its rules governing independent expenditures and electioneering communications by corporations and labor organizations. This document announces the effective date of amendments made by that final rule.

DATES: The effective date for the final rule published October 21, 2014, at 79 FR 62797, is January 27, 2015.

FOR FURTHER INFORMATION CONTACT: Mr. Robert M. Knop, Assistant General Counsel, or Ms. Joanna S. Waldstreicher, Ms. Esther D. Gyory, or Ms. Cheryl A.F. Hemsley, Attorneys, 999 E Street NW., Washington, DC 20463, (202) 694-1650 or (800) 424-9530.

SUPPLEMENTARY INFORMATION: On October 21, 2014, the Commission published final rules to implement changes to its rules governing independent expenditures and electioneering communications by corporations and labor organizations. Final Rules on Independent Expenditures and Electioneering Communications by Corporations and Labor Organizations 79 FR 62797 (Oct. 21, 2014). These changes responded to a Petition for Rulemaking filed by the James Madison Center for Free Speech petitioning the Commission to amend its regulations in response to the decision of the Supreme Court in Citizens United v. FEC, 558 U.S. 310 (2010). The final rules removed provisions prohibiting corporations and labor organizations from making independent expenditures and electioneering communications, and also removed or amended other regulations that implemented or referred to those prohibitions.

Pursuant to 52 U.S.C. 30111(d), the Commission must transmit any rules or regulations to the Speaker of the House of Representatives and the President of the Senate for a period of 30 legislative days before they are finally prescribed. For the changes to 11 CFR parts 104 and 114 concerning independent expenditures and electioneering communications by corporations and labor organizations, the rules were sent to Congress on October 10, 2014. The 30 legislative day period ended on January 26, 2015, in the Senate and January 27, 2015, in the House of Representatives.

In the final rules, the Commission stated that it would publish a separate notice announcing the effective date of the amendments to 11 CFR parts 104 and 114. 79 FR 62797. Through this Notice, the Commission announces that the effective date of amendments to 11 CFR parts 104 and 114 is January 27, 2015.

Dated: March 3, 2015.
On behalf of the Commission.
Ann M. Ravel,
Chair, Federal Election Commission.

[FR Doc. 2015-05178 Filed 3-5-15; 8:45 am]

BILLING CODE 6715-01-P